POSTAL REGULATORY COMMISSION

[Docket No. N2024-1; Order No. 7998]

Service Standard Changes

AGENCY: Postal Regulatory Commission.

ACTION: Notice.

SUMMARY: The Commission is acknowledging a recently-filed Postal Service request for an advisory opinion regarding planned changes to its processing and transportation networks. This document invites public comments on the request and addresses several related procedural steps.

DATES: Notice of intent to file a rebuttal: November 22, 2024; Hearing: December 4, 2024, at 10:00 a.m., Eastern Daylight Time, Virtual.

ADDRESSES: Submit notices electronically via the Commission's Filing Online system at http://www.prc.gov. Persons interested in intervening who cannot submit their views electronically should contact the person identified in the FOR FURTHER INFORMATION CONTACT section.

FOR FURTHER INFORMATION CONTACT: David A. Trissell, General Counsel, at 202-789-6820.

SUPPLEMENTARY INFORMATION:

Table of Contents

I. Introduction

II. Hearing Procedures

III. Ordering Paragraphs

I. Introduction

On October 4, 2024, the Postal Service filed a request for an advisory opinion from the Commission regarding planned changes to its processing and transportation networks.¹ Specifically, the Postal Service proposes to create a nationwide network of Regional Processing and Distribution Centers (RPDCs) and Local Processing Centers (LPCs). Request at 3. Further, the Postal Service plans to implement its Regional Transportation Optimization (RTO) initiative on a nationwide basis. Id. The Postal Service also proposes to revise its service standards “to align with these operational initiatives . . . .” Id.

¹ United States Postal Service Request for an Advisory Opinion on Changes in the Nature of Postal Services, October 4, 2024 (Request).

II. Hearing Procedures

Before issuing its advisory opinion, the Commission shall accord an opportunity for a formal, on-the-record hearing pursuant to 5 U.S.C. 556 and 557. 39 U.S.C. 3661(c). The procedural rules in 39 CFR part 3020 apply to Docket No. N2024-1. The Commission will sit en banc for Docket No. N2024-1. See 39 CFR 3020.122(b). In Order No. 7695, the Commission stated that “[t]he form and manner for any hearings to be held in Docket No. N2024-1 shall be established by Commission Order or Presiding Officer Ruling at a later date.” ²

² Notice and Order on the Postal Service's Request for an Advisory Opinion on Changes in the Nature of Postal Services, October 9, 2024, at 14 (Order No. 7695).

A majority of the Commission has determined that it will conduct any hearings in Docket No. N2024-1 in person in the Commission's hearing room at 901 New York Avenue NW, Suite 200, Washington DC, 20268. Commissioner Ashley Poling shall preside over any hearings conducted as part of this proceeding. Additionally, the hearings will be live-streamed, and information on how to access the stream shall be forthcoming. The stream will only allow remote parties to view, but not interact with, the live hearing taking place at the Commission's hearing room. Individuals do not need to register in advance to access the livestream.

Additionally, the Commission, to better support the hearing, modifies the procedural schedule set forth in Order No. 7695 regarding certain deadlines in preparation for hearing and rebuttal case. The modified schedule appears below the signature of this Order as Attachment 1. Pursuant to that schedule, any party that intends to conduct oral cross-examination shall file a notice of intent to do so by November 22, 2024. The notice must include an estimate of the amount of time requested for each witness.

As noted in Order No. 7695, a rebuttal case is any evidence and testimony offered to disprove or contradict the evidence and testimony submitted by the Postal Service. A rebuttal case does not include cross-examination of the Postal Service's witnesses or argument submitted via a brief or statement of position. Any party that intends to file a rebuttal case must file a notice confirming its intent to do so by November 22, 2024. Any rebuttal case, consisting of any testimony and all materials in support of the case, must be filed by December 4, 2024. Any motion for leave to file a surrebuttal case is due December 6, 2024. See Order No. 7695 at 24.

If no party files a notice of intent to file a rebuttal case by November 22, 2024, the hearing of the Postal Service's direct case shall begin at 10:00 a.m. ET on December 4, 2024, with additional days reserved on December 5, 2024, and December 6, 2024.

If any party files a notice of intent to file a rebuttal case by November 22, 2024, but no surrebuttal testimony will be presented, then the hearing of the Postal Service's direct case shall begin at 10:00 a.m. ET on December 11, 2024, with additional days reserved on December 12, 2024, and December 13, 2024.

If any party files a notice of intent to file a rebuttal case by November 22, 2024, and the Commission approves the presentation of surrebuttal testimony, then the hearing of the Postal Service's direct case shall begin at 10:00 a.m. ET on December 18, 2024, and the hearing of the surrebuttal case shall end December 20, 2024.

Each individual seeking to attend the live hearing at the Commission's hearing room must register by sending an email to Registration@prc.gov, with the subject line “N2024-1 Hearing Registration” by November 22, 2024. The hearing is open to the public subject to space constraints in the Commission's hearing room, however only intervenors are able to question Postal Service witnesses. In order to facilitate orderly public participation, this email shall provide the following information:

• your first and last name;

• your email address;

• your affiliation (if you are participating in your capacity as an employee, officer, or member of an entity such as a corporation, association, or government agency).

The Registration@prc.gov email address is established solely for the exchange of information relating to the logistics of registering for, and attending, the live hearing.³ No information related to the substance of the Postal Service's Request shall be communicated, nor shall any information provided by participants apart from the list identified above be reviewed or considered. Only documents filed with the Commission's docket system will be considered by the Commission.

³ Please refer to the Commission's privacy policy which is available at https://www.prc.gov/privacy.

III. Ordering Paragraphs

It is ordered:

1. The Commission will conduct any hearings in Docket No. N2024-1 in person at the Commission's hearing room.

2. The modified procedural schedule for this proceeding is set forth below the signature of this Order.

3. The Secretary shall arrange for publication of this order in the Federal Register.

By the Commission.
Erica A. Barker,
Secretary.

Procedural Schedule for Docket No. N2024-1
[Modified by the Commission, November 15, 2024]
Technical Conference Dates:
Deadline to Email Registration@prc.gov to Register to Participate in the Live Technical Conference via Microsoft Teams | October 15, 2024.
Filing of the Postal Service's Materials (if any) for the Technical Conference | October 15, 2024.
Technical Conference (live via Microsoft Teams) | October 16, 2024, at 1:00 p.m. Eastern Time (ET).
Intervention Deadline:
Filing of Notice of Intervention | October 21, 2024.
Discovery Deadlines for the Postal Service's Direct Case:
Last Filing of Discovery Requests | November 5, 2024.
Filing of the Postal Service's Answers to Discovery | November 12, 2024.
Deadlines in Preparation for Hearing (assuming no rebuttal case):
Filing of Notice Confirming Intent to Conduct Oral Cross-Examination | November 22, 2024.
Filing of Request to Present Oral Argument | November 22, 2024.
Filing of Notice of Designations (Parties) | November 26, 2024.
Filing of Notices of Designated Materials (Postal Service) | December 2, 2024.
Rebuttal Case Deadlines (if applicable):
Filing of Notice Confirming Intent to File a Rebuttal Case | November 22, 2024.
Filing of Rebuttal Case | December 4, 2024.
Surrebuttal Case Deadlines (if applicable): |
Filing of Motion for Leave to File Surrebuttal Case | December 6, 2024.
Filing of Response to Motion for Leave to File Surrebuttal Case | December 10, 2024.
Filing of Surrebuttal Case (if authorized) | December 13, 2024.
Hearing Dates:
Hearings (with no Rebuttal Case) | December 4 to 6, 2024.
Hearings (with Rebuttal Case, but no authorized Surrebuttal Case) | December 11 to 13, 2024.
Hearings (with Rebuttal Case and authorized Surrebuttal Case) | December 18 to 20, 2024.
Briefing Deadlines:
Filing of Initial Briefs (with no Rebuttal Case) | December 12, 2024.
Filing of Reply Briefs (with no Rebuttal Case) | December 19, 2024.
Statement of Position Deadline:
Filing of Statement of Position (with no Rebuttal Case) | December 12, 2024.
Advisory Opinion Deadline:
Filing of Advisory Opinion | January 31, 2025.

[FR Doc. 2024-27281 Filed 11-20-24; 8:45 am]

BILLING CODE 7710-FW-P